COMMISSION ON CIVIL RIGHTS

Notice of Public Meeting of the Montana Advisory Committee to the U.S. Commission on Civil Rights

AGENCY: U.S. Commission on Civil Rights.

ACTION: Announcement of meeting.

SUMMARY: Notice is hereby given, pursuant to the provisions of the rules and regulations of the U.S. Commission on Civil Rights (Commission), and the Federal Advisory Committee Act (FACA), that a community forum of the Montana Advisory Committee to the Commission will convene at 9:00 a.m. (MDT) on Thursday, March 29, 2018, at the Hardin Middle School, 611 5th Street W, Hardin, MT 59034. The purpose of the community forum is to gather information from federal and tribal government officials and others regarding bordertown discrimination in Montana. Briefing topics will include discrimination that impacts Native Americans in the areas of education, employment, services, public accommodations, law enforcement, and the legal system.

DATES: The meeting will be held on Thursday, March 29, 2018, from 9:00 a.m. to 5:00 p.m. (MDT).

Location: Hardin Middle School, 611 5th Street W, Hardin MT 59034.

Public Call Information: Dial: 1-888-293-6960, Conference ID: 4985239.

FOR FURTHER INFORMATION CONTACT: David Barreras, at dbarreras@usccr.gov or (312) 353-8311.

SUPPLEMENTARY INFORMATION: Members of the public may also listen to the discussion through the above listed toll free number. As well as attending in person, any interested member of the public may call the above listed number and listen to the meeting. An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Time will be set aside at the community forum from 4:00 p.m.-5:00 p.m. so that members of the public may address the Committee after the formal presentations have been completed. Persons interested in the issue are also invited to submit written comments; the comments must be received in the regional office by Monday, April 30, 2018. Written comments may be mailed to the Western Regional Office, U.S. Commission on Civil Rights, 300 North Los Angeles Street, Suite 2010, Los Angeles, CA 90012, faxed to (213) 894-0508, or emailed to Angelica Trevino at atrevino@usccr.gov. Persons who desire additional information may contact the Western Regional Office at (213) 894-3437. Persons who plan to attend the community forum and require other accommodations, please contact Evelyn Bohor at ebohor@usccr.gov at the Rocky Mountain Regional Office at least ten (10) working days before the scheduled date of the meeting.

Records and documents discussed during the meeting will be available for public viewing as they become available at https://facadatabase.gov/committee/committee.aspx?cid=259&aid=17 and clicking on the “Meeting Details” and “Documents” links. Records generated from this meeting may also be inspected and reproduced at the Western Regional Office, as they become available, both before and after the meeting. Persons interested in the work of this advisory committee are advised to go to the Commission's website, www.usccr.gov, or to contact the Western Regional Office at the above phone number, email or street address.

Agenda

Smudging Ceremony

Welcome and Introductions:

Gwen Kircher, Chair, Montana Advisory Committee

Community Forum

Montana Advisory Committee

Government and Tribal Officials, Advocates, Experts

Dated: March 7, 2018.
David Mussatt,
Supervisory Chief, Regional Programs Unit.

[FR Doc. 2018-04978 Filed 3-12-18; 8:45 am]

BILLING CODE 6335-01-P